DEPARTMENT OF ENERGY

Federal Energy Regulatory Commission

[Project No. 13610-000]

Hydro Energy Technologies LLC; Notice of Preliminary Permit Application Accepted for Filing and Soliciting Comments, Motions To Intervene, and Competing Applications

November 16, 2009.

On October 30, 2009, Hydro Energy Technologies LLC filed an application for a preliminary permit, pursuant to section 4(f) of the Federal Power Act, proposing to study the feasibility of the Independence Dam Hydroelectric Project, located in Defiance County, in the state of Ohio. The sole purpose of a preliminary permit, if issued, is to grant the permit holder priority to file a license application during the permit term. A preliminary permit does not authorize the permit holder to perform any land disturbing activities or otherwise enter upon lands or waters owned by others without the owners' express permission.

The proposed project would consist of the following developments:

(1) An existing 652-feet-long, 11.8-feet-high concrete gravity Independence dam;

(2) an existing reservoir having a surface area of 545 acres and a storage capacity of 3,270 acre-feet and normal water surface elevation of 600 feet mean sea level; (3) a proposed powerhouse containing one or more vertical open flume turbine generating units having a combined nominal capacity of 1-megawatt; (4) a proposed 150-feet-long, 480-VAC transmission line and transformer; and (5) appurtenant facilities. The proposed development would have an average annual generation of 6,000 megawatt-hours.

Applicant Contact: Anthony J. Marra Jr., President, Hydro Energy Technologies LLC, 31300 Solon Rd., Suite 12, Solon, OH 44139; phone: (440) 498-1000.

FERC Contact: Mary Greene, 202-502-8865.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13610) in the docket number field to access the document. For assistance, contact FERC Online Support.

Kimberly D. Bose,
Secretary.

[FR Doc. E9-28016 Filed 11-20-09; 8:45 am]

BILLING CODE 6717-01-P